DEPARTMENT OF THE INTERIOR

National Park Service

[NPS-WASO-NAGPRA-NPS0027788: PPWOCRADN0-PCU00RP14.R50000]

Notice of Inventory Completion: Kansas State Historical Society, Topeka, KS

AGENCY: National Park Service, Interior.

ACTION: Notice.

SUMMARY: The Kansas State Historical Society has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Kansas State Historical Society. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Kansas State Historical Society at the address in this notice by June 14, 2019.

ADDRESSES: Dr. Robert J. Hoard, Kansas State Historical Society, 6425 SW 6th Avenue, Topeka, KS 66615, telephone (785) 272-8681 Ext. 269, email Robert.Hoard@ks.gov.

SUPPLEMENTARY INFORMATION: Notice is here given in accordance with the Native American Graves Protection and Repatriation Act (NAGPRA), 25 U.S.C. 3003, of the completion of an inventory of human remains and associated funerary objects under the control of the Kansas State Historical Society, Topeka, KS. The human remains and associated funerary objects were removed from archeological site 14RP1, Republic County, KS.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Kansas State Historical Society professional staff in consultation with representatives of the Pawnee Nation of Oklahoma.

History and Description of the Remains

Removal of human remains and associated funerary objects from the Pawnee Indian Village site (also known as Kansas Monument site and Kansas archeological site number 14RP1) occurred in several instances.

In 1996 and 1997, human remains representing, at minimum, seven individuals were removed from archeological site 14RP1, the Pawnee Indian Village site, in Republic County, KS. The human remains and associated funerary objects were taken from burial pits within and near the site. Some of the burial had been disturbed variously, by intentional looting and excavation by professional archeologists before burial law protection had been enacted. Burial 1 consists of one adult represented by 38 skeletal elements. Burial 2 consists of one adult represented by fragmentary cranial bones, phalanges, mandible fragments, long bone diaphysis, and teeth. Burial 3 consists of one adult male represented by 74 badly damaged and decomposed cranial elements, long bones, and scapula, clavicle, and pelvic elements. Burial 4 consists of one adult represented by fragmented long bones and a patella. Burial 5 consists of one adult female represented by over 140 small bone fragments that include one pelvic fragment and several identifiable long bone fragments. Burial 6 consists of one four-to-six month old infant represented by 15 bone fragments and two teeth. Burial 7 consists of seven element fragments. No known individuals were identified. The 90 associated funerary objects include one chipped stone scraper, ochre, flakes, beads and beads fragments, one smoking pipe fragment, two iron fragments, and multiple wood fragments. These cultural items are identified by the designation UBS 1990-12.

At an unknown date, human remains representing, at minimum, five individuals were removed from archeological site 14RP1 in Republic County KS. The human remains and associated funerary objects were donated to the Kansas State Historical Society in 1896, by Mrs. George Johnson. The fragmentary elements belong to one infant represented by 69 elements; one two-to-five-year-old represented by 21 bone fragments; and three adults represented by 54 bone fragments. No known individuals were identified. The 40 associated funerary objects include six pottery fragments, 10 flakes, one quartzite grinding stone, five grinding stone fragments, four red quartzite mortar fragments, one wooden post fragment, five scraps of copper, one hammer stone, one horse tooth, three sandstone fragments, one projectile point blank, and two pieces of pyrite. These cultural items are identified by the designation UBS 1991-05.

In 1966, human remains representing, at minimum, one individual were removed from Area 662, excavation 326, Feature 584 at archeological site 14RP1 by state archeologist Thomas Witty. Twenty fragments of human bone representing one adult were found in Kansas State Historical Society collections by Robert Hoard in June 2008, and include fragments of the temporal, maxilla, maxilla or mandible, vertebrae, patella, tarsals, and unidentifiable fragments. No known individuals were identified. No associated funerary objects were present. These cultural items are identified by the designation UBS 2018-02.

Archeological site 14RP1 was occupied between approximately 1770 and 1810 C.E., and is well known to the Pawnee Nation of Oklahoma. Ethnographically, Zebulon Pike, Pedro (Pierre) Vial, and Lewis and Clark all document the presence of the Kitkahaki band of the Pawnee in the region encompassing site 14RP1 during the 1770-1810 C.E. timeframe. Geographically, the site lies within the historically documented territory of the Pawnee (see summaries in Roper 2006 and Wedel 1936; 1959:40-41, 58-60). Pawnee oral history supports these findings (see Weltfish 1965). Furthermore, excavations conducted in the 1960s by the Kansas State Historical Society and in 2007 by the University of Kansas corroborate the above statements.

Determinations Made by the Kansas State Historical Society

Officials of the Kansas State Historical Society have determined that:

• Pursuant to 25 U.S.C. 3001(9), the human remains described in this notice represent the physical remains of 13 individuals of Native American ancestry.

• Pursuant to 25 U.S.C. 3001(3)(A), the 130 objects described in this notice are reasonably believed to have been placed with or near individual human remains at the time of death or later as part of the death rite or ceremony.

• Pursuant to 25 U.S.C. 3001(2), there is a relationship of shared group identity that can be reasonably traced between the Native American human remains and associated funerary objects and the Pawnee Nation of Oklahoma.

Additional Requestors and Disposition

Lineal descendants or representatives of any Indian Tribe or Native Hawaiian organization not identified in this notice that wish to request transfer of control of these human remains and associated funerary objects should submit a written request with information in support of the request to Dr. Robert J. Hoard, State Archeologist, Kansas State Historical Society, 6425 SW 6th Avenue, Topeka, KS 66615-1099, telephone 785-272-8681 Ext. 269, email Robert.Hoard@ks.gov, by June 14, 2019. After that date, if no additional requestors have come forward, transfer of control of the human remains and associated funerary objects to the Pawnee Nation of Oklahoma may proceed.

The Kansas State Historical Society is responsible for notifying the Pawnee Nation of Oklahoma that this notice has been published.

Dated: April 25, 2019.
Melanie O'Brien,
Manager, National NAGPRA Program.

[FR Doc. 2019-09994 Filed 5-14-19; 8:45 am]

BILLING CODE 4312-52-P